COMMODITY FUTURES TRADING COMMISSION

Notice of Meeting; Sunshine Act

Agency Holding the Meeting: Commodity Futures Trading

Sunshine Act Meetings

Time and Date: 11 a.m., Friday, June 30, 2006.

Place: 1155 21st St., NW., Washington, DC, 9th Floor Commission Conference Room.

Status: Closed.

Matters to be Considered: Surveillance matters.

Contact Person for More Information: Eileen A. Donovan, (202) 418-5100.

Eileen A. Donovan,
Acting Secretary of the Commission.

[FR Doc. 06-4642 Filed 5-12-06; 4:42 pm]

BILLING CODE 6351-01-M